DEPARTMENT OF COMMERCE

Foreign-Trade Zones Board

[S-96-2018]

Foreign-Trade Zone 76—Bridgeport, Connecticut; Application for Expansion of Subzone 76A; ASML US, LLC; Wilton and Bethel, Connecticut

An application has been submitted to the Foreign-Trade Zones (FTZ) Board by the Bridgeport Port Authority, grantee of FTZ 76, requesting an expansion of Subzone 76A on behalf of ASML US, LLC, located in Wilton and Newtown, Connecticut. The application was submitted pursuant to the provisions of the Foreign-Trade Zones Act, as amended (19 U.S.C. 81a-81u), and the regulations of the FTZ Board (15 CFR part 400). It was formally docketed on July 2, 2018.

Subzone 76A was approved on July 24, 2014 (79 FR 44389, July 31, 2014) and consists of the following sites: Site 1 (29.23 acres) 71, 73 & 77 Danbury Road, Wilton; and, Site 2 (3.65 acres) 7 Edmund Road, Newtown.

The applicant is requesting authority to expand the subzone to include additional sites as follows: Proposed Site 3 (11.78 acres) 59 Danbury Road, Wilton; and, Proposed Site 4 (2.68 acres) 7 Francis Clarke Circle, Bethel. No additional authorization for production activity has been requested at this time. The existing subzone and the proposed sites would be subject to the existing activation limit of FTZ 76.

In accordance with the FTZ Board's regulations, Kathleen Boyce of the FTZ Staff is designated examiner to review the application and make recommendations to the Executive Secretary.

Public comment is invited from interested parties. Submissions shall be addressed to the FTZ Board's Executive Secretary at the address below. The closing period for their receipt is August 20, 2018. Rebuttal comments in response to material submitted during the foregoing period may be submitted during the subsequent 15-day period to September 4, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: July 3, 2018.
Elizabeth Whiteman,
Acting Executive Secretary.

[FR Doc. 2018-14618 Filed 7-6-18; 8:45 am]

BILLING CODE 3510-DS-P